FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 15, 2006.

A. Federal Reserve Bank of Minneapolis (Jacqueline G. King, Community Affairs Officer) 90 Hennepin Avenue, Minneapolis, Minnesota 55480-0291:

1. Garry D. Peterka, Miller, South Dakota and Dan R. Peterka, Eden Prairie, Minnesota, individually, and as part of a group in concert with Jerry A. Peterka, Marianne D. Peterka, HoniAnn Peterka, Lori A. Peterka, Howard J. Peterka, Michael T. Peterka, Ryan A. Peterka, Kristen N. Peterka, Adam J. Peterka, David J. Peterka, Tom J. Peterka, Jordan D. Peterka, Darin M. Peterka, and Jena N. Peterka, all of Miller, South Dakota; Judy K. Dylla, Ann M. Dylla, Bernie G. Dylla, and Mark J. Dylla, all of Littleton, Colorado; Kathy A. King, Stephen J. King, Brian P. King, and Gary P. King, all of Apple Valley, Minnesota; Patricia A. Friend Peterka, Jeffrey D. Peterka, John A. Peterka, and Kathryn M. Peterka, all of Eden Prairie, Minnesota; and Susan A. King Borchardt, Castlerock, Colorado; to acquire voting shares of M&H Financial Services and thereby indirectly acquire First State Bank of Miller, both of Miller, South Dakota.

Board of Governors of the Federal Reserve System, November 24, 2006.
Jennifer J. Johnson,
Secretary of the Board.

[FR Doc. E6-20233 Filed 11-28-05; 8:45 am]

BILLING CODE 6210-01-S